DEPARTMENT OF HOUSING AND URBAN DEVELOPMENT

[Docket No. FR-5546-D-02]

Order of Succession for the Office of Disaster Management and National Security

AGENCY: Office of the Secretary, HUD.

ACTION: Notice of order of succession.

SUMMARY: In this notice, the Secretary of HUD designates the Order of Succession for the Office of Disaster Management and National Security. This is the first order of succession established for this office.

DATES: Effective Date: September 30, 2011.

FOR FURTHER INFORMATION CONTACT: Laura L. McClure, Acting Chief Disaster and National Security Officer, Office of Disaster Management and National Security, Department of Housing and Urban Development, 451 7th Street, SW., Room 10170, Washington, DC 20410-6000, telephone number 202-402-6300 (this is not a toll-free number). Persons with hearing or speech impairments may access this number through TTY by calling the toll-free Federal Relay Service at telephone number 1-800-877-8339.

SUPPLEMENTARY INFORMATION: The Secretary of HUD is issuing this Order of Succession of officials authorized to perform the functions and duties of the Chief Disaster and National Security Officer, Office of Disaster Management and National Security, when, by reason of absence, disability, or vacancy in office, the Chief Disaster and National Security Officer is not available to exercise the powers or perform the duties of the office. This Order of Succession is subject to the provisions of the Federal Vacancies Reform Act of 1998 (5 U.S.C. 3345-3349d).

Accordingly, the Secretary of HUD designates the following Order of Succession:

Section A. Order of Succession

Subject to the provisions of the Federal Vacancies Reform Act of 1998, during any period when, by reason of absence, disability, or vacancy in office, the Chief Disaster and National Security Officer for the Department of Housing and Urban Development is not available to exercise the powers or perform the duties of the Chief Disaster and National Security Officer, the following officials within the Office of Disaster Management and National Security are hereby designated to exercise the powers and perform the duties of the office:

(1) Deputy Chief Disaster and National Security Officer.

(2) Preparedness Division Director.

(3) Protective Services Division Director.

(4) Response and Recovery Division Director.

These officials shall perform the functions and duties of the office in the order specified herein, and no official shall serve unless all the other officials, whose position titles precede his/hers in this order, are unable to act by reason of absence, disability, or vacancy in office.

Section B. Authority Superseded

There are no previous Orders of Succession.

Authority: Section 7(d), Department of Housing and Urban Development Act, 42 U.S.C. 3535(d).

Dated: September 30, 2011.
Shaun Donovan,
Secretary.

[FR Doc. 2011-26047 Filed 10-6-11; 8:45 am]

BILLING CODE 4210-67-P